FEDERAL ACCOUNTING STANDARDS ADVISORY BOARD

Notice of Issuance of Statement of Federal Financial Accounting Standards (SFFAS) No. 32, Consolidated Financial Report of the United States Government Requirements; and Technical Bulletin 2006-1, Recognition and Measurement of Asbestos-Related Cleanup Costs. The 2007 Meeting Schedule of the Accounting and Auditing Policy Committee (AAPC)

Board Action: Pursuant to 31 U.S.C. 3511(d), the Federal Advisory Committee Act (Pub. L. 92-463), as amended, and the FASAB Rules of Procedure, as amended in April 2004, notice is hereby given that the Federal Accounting Standards Advisory Board (FASAB) has issued Statement of Federal Financial Accounting Standard 32, Consolidated Financial Report of the United States Government Requirements, and Technical Bulletin 2006-1, Recognition and Measurement of Asbestos-Related Cleanup Costs.

Copies of the Standard and Technical Bulletin can be obtained by contacting FASAB at 202-512-7350. The Standard and Technical Bulletin are also available on FASAB's home page http://www.fasab.gov/codifica.html.

The FASAB Accounting and Auditing Policy Committee (AAPC), a permanent committee established by the Federal Accounting Standards Advisory Board (FASAB), will meet on the following dates in room 7C13 of the GAO Building:

— Thursday, January 25, 2007.

— Thursday, March 29, 2007.

— Thursday, May 31, 2007.

— Thursday, July 12, 2007.

— Thursday, September 27, 2007.

— Thursday, November 29, 2007.

FOR FURTHER INFORMATION CONTACT: Wendy M. Comes, Executive Director, 441 G St., NW., Mail Stop 6K17V, Washington, DC 20548, or call (202) 512-7350.

AUTHORITY: Federal Advisory Committee Act. Pub. L. No. 92-463.

Dated: October 4, 2006.
Charles Jackson,
Federal Register Liaison Officer.

[FR Doc. 06-8546 Filed 10-6-06; 8:45 am]

BILLING CODE 1610-01-M